DEPARTMENT OF ENERGY

[FE Docket No. 14-179-LNG]

Notice of Change in Control; Pieridae Energy (USA) Ltd.

AGENCY: Office of Fossil Energy, DOE.

ACTION: Notice of change in control.

SUMMARY: The Office of Fossil Energy (FE) of the Department of Energy (DOE) gives notice of receipt of a Notice of Change in Control (Notice) filed by Pieridae Energy (USA) Ltd. (Pieridae US) in the above-referenced docket on August 31, 2018. The Notice describes a change in control of Pieridae Energy Limited, the parent company of Pieridae US.

DATES: Protests, motions to intervene or notices of intervention, as applicable, and written comments are to be filed using procedures detailed in the Public Comment Procedures section no later than 4:30 p.m., Eastern time, December 26, 2018.

ADDRESSES:

Electronic Filing by email: fergas@hq.doe.gov.

Regular Mail: U.S. Department of Energy (FE-34), Office of Regulation, Analysis, and Engagement, Office of Fossil Energy, P.O. Box 44375, Washington, DC 20026-4375.

Hand Delivery or Private Delivery Services (e.g., FedEx, UPS, etc.): U.S. Department of Energy (FE-34), Office of Regulation, Analysis, and Engagement, Office of Fossil Energy, Forrestal Building, Room 3E-042, 1000 Independence Avenue SW, Washington, DC 20585.

FOR FURTHER INFORMATION CONTACT:

Larine Moore or Amy Sweeney, U.S. Department of Energy (FE-34), Office of Regulation, Analysis, and Engagement, Office of Fossil Energy, Forrestal Building, Room 3E-042, 1000 Independence Avenue SW, Washington, DC 20585, (202) 586-9478; (202) 586-2627.

Cassandra Bernstein, U.S. Department of Energy (GC-76), Office of the Assistant General Counsel for Electricity and Fossil Energy, Forrestal Building, 1000 Independence Avenue SW, Washington, DC 20585, (202) 586-9793.

SUPPLEMENTARY INFORMATION:

Summary of Change in Control

The Notice was filed under section 3 of the Natural Gas Act (NGA), 15 U.S.C. 717b. Pieridae US filed a Notice of Change in Control in the above-referenced docket on August 31, 2018.¹ In the Notice, Pieridae US states that it is wholly-owned by Pieridae Energy Limited (Pieridae). Pieridae US further states that, during July 2018, Electron Capital Partners, LLC (a Delaware corporation), either alone or together with Electron Global Master Fund, L.P. (collectively, Electron) acquired beneficial ownership of, or exercised control or direction over, 10% or more of all issued and outstanding common shares of Pieridae. As of July 31, 2018, Electron beneficially owned, or exercised control or direction over, 7,127,775 common shares of Pieridae, representing approximately 14.1% of Pieridae's issued and outstanding common shares.²

¹ Pieridae Energy (USA) Ltd., FE Docket No. 14-179-LNG, Notice of Change in Control (Aug. 31, 2018).

² Pieridae US is advised that its described change in control may also require the approval of the Committee on Foreign Investment in the United States (CFIUS). DOE expresses no opinion regarding the need for review by CFIUS. Additional information may be obtained at: https://home.treasury.gov/policy-issues/international/the-committee-on-foreign-investment-in-the-united-states-cfius.

Additional details can be found in the Notice, posted on the DOE/FE website at: https://www.energy.gov/sites/prod/files/2018/09/f55/CIC%2008_31_18.pdf.

DOE/FE Evaluation

DOE/FE will review Pieridae US's Notice in accordance with its Procedures for Changes in Control Affecting Applications and Authorizations to Import or Export Natural Gas (CIC Procedures).³ Consistent with the CIC Procedures, this notice addresses only the proceeding in which Pieridae US has been granted final authorization to export liquefied natural gas (LNG) to countries with which the United States has not entered into a free trade agreement (FTA) requiring national treatment for trade in natural gas (non-FTA countries). The affected proceeding is FE Docket No. 14-179-LNG. If no interested person protests the change in control and DOE takes no action on its own motion, the change in control will be deemed granted 30 days after publication in the Federal Register. If one or more protests are submitted, DOE will review any motions to intervene, protests, and answers, and will issue a determination as to whether the proposed change in control has been demonstrated to render the underlying authorization inconsistent with the public interest.

³ 79 FR 65541 (Nov. 5, 2014).

Public Comment Procedures

Interested persons will be provided 15 days from the date of publication of this notice in the Federal Register in order to move to intervene, protest, and answer Pieridae US's Notice. Protests, motions to intervene, notices of intervention, and written comments are invited only as to the change in control described in the Notice.⁴ All protests, comments, motions to intervene, or notices of intervention must meet the requirements specified by DOE's regulations in 10 CFR part 590.

⁴ Intervention, if granted, would constitute intervention only in the change in control portion of this proceeding, as described herein.

Filings may be submitted using one of the following methods: (1) Preferred method: emailing the filing to fergas@hq.doe.gov, with the individual FE Docket Number(s) in the title line, or Pieridae Change in Control in the title line to include all applicable dockets in this Notice; (2) mailing an original and three paper copies of the filing to the Office of Regulation, Analysis, and Engagement at the address listed in ADDRESSES; or (3) hand delivering an original and three paper copies of the filing to the Office of Regulation, Analysis, and Engagement at the address listed in ADDRESSES. All filings must include a reference to the individual FE Docket Number(s) in the title line, or Pieridae Change in Control in the title line to include all applicable dockets in this Notice. Please Note: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

The Notice and any filed protests, motions to intervene or notice of interventions, and comments are available for inspection and copying in the Office of Regulation, Analysis, and Engagement docket room, Room 3E-042, 1000 Independence Avenue SW, Washington, DC 20585. The docket room is open between the hours of 8:00 a.m. and 4:30 p.m., Monday through Friday, except Federal holidays.

The Notice and any filed protests, motions to intervene or notice of interventions, and comments will also be available electronically by going to the following DOE/FE Web address: http://www.fe.doe.gov/programs/gasregulation/index.html.

Signed in Washington, DC, on December 6, 2018.
Amy Sweeney,
Director, Division of Natural Gas Regulation.

[FR Doc. 2018-26763 Filed 12-10-18; 8:45 am]

BILLING CODE 6450-01-P